DEPARTMENT OF HEALTH AND HUMAN SERVICES

Health Resources and Services Administration

COMPETES Reauthorization Act Challenge Competition

AGENCY: Health Resources and Services Administration, Department of Health and Human Services.

ACTION: Notice.

SUMMARY: The Health Resources and Services Administration's (HRSA's) Maternal and Child Health Bureau (MCHB) announces a prize competition for the Improving Care for Children and Youth—Incentive Prize. MCHB is sponsoring the Improving Care for Children and Youth challenge to spur innovative solutions to overcoming barriers to accessing health care and high-quality services faced by families. This challenge will reward the development and testing of scalable innovations that improve care for children and youth.

FOR FURTHER INFORMATION CONTACT: Jessie Buerlein, Office of Policy and Planning, MCHB, JBuerlein@hrsa.gov, (301) 443-8931 and James Resnick, Office of the Associate Administrator, MCHB, JResnick@hrsa.gov, (301) 334-3222.

SUPPLEMENTARY INFORMATION: On January 4, 2011, the America COMPETES Reauthorization Act of 2010 was signed into law allowing the use of challenges and prize competitions increasing agencies' ability to promote and harness innovation. Competitions run by the federal government result in a number of benefits to the public, including the following:

(a) Increasing the number and diversity of the individuals, teams, and organizations that are addressing a particular problem or challenge of national significance;

(b) Improving the skills of the participants in the competition; and

(c) Directing attention to new market opportunities and stimulating private sector investment.

This challenge, which will be structured in phases with a narrowing of applicants through each phase to result in one final winner, will reach a diverse population of innovators and problem solvers, including families, coders, public health experts, community leaders, individuals affiliated with academic institutions, research and development communities in the private sector, and others.

All submissions will be evaluated and separate prizes will be awarded for each of the three phases below.

Phase 1: Design

Phase 2: Development and Small Scale Testing

Phase 3: Scaling

Estimated dates for each phase are as follows:

Phase 1: Effective on January 2, 2018

Phase 1 Submission Period Ends: January 31, 2018, 11:59 p.m. ET

Phase 1 Judging Period: February 1-February 28, 2018

Phase 1 Winners Announced: March 12, 2018

Phase 2 Begins: March 13, 2018

Phase 2 Submission Period Ends: July 11, 2018

Phase 2 Judging Period: July 12-August 12, 2018

Phase 2 Winners Announced: August 20, 2018

Phase 3 Begins: August 21, 2018

Phase 3 Submission Period Ends: February 21, 2019

Phase 3 Winner Announced: March 1, 2019

Subject of Challenge Competition

MCHB is sponsoring the Improving Care for Children and Youth Challenge. The goal is to spur innovative solutions to overcoming barriers to accessing high-quality health care faced by families. This challenge will reward the development and testing of scalable innovations that can improve health outcomes for children and youth.

While insurance coverage is the first critical step in ensuring access to health care, it alone does not ensure access to care, and children who have insurance coverage may still face hurdles in receiving the high-quality, individualized care they need. Other factors that include social determinants of health also impact access to high-quality care, such as socioeconomic, environmental, and behavioral factors.¹

¹ Future Child. 2015 Spring; 25(1): 65-90.

Various types of technology have proven successful in improving access to care, improving efficiency in health care, improving quality of care, and empowering patients and consumers.² E-health is a field of research and practice that involves the application of digital technologies to assist or deliver health interventions. These health interventions can be in various forms, including: Web sites offering information, support and interactive e-therapies including health apps, virtual reality systems, relaxation training, etc.³ Another example is the development and use of assistive technologies, which can greatly aid those living with disabilities. Many agencies have effectively used prizes and challenges, such as NASA, the Department of Energy, and the Environmental Protection Agency. This challenge will be an effective mechanism to cultivate innovations by creating the incentives needed to attract a broad array of competing innovators to improve care for children and youth.

² Harrison, J et al (2006) The Role of E-health in the Changing Health Care Environment. Nurse Econ. 24(6): 283-288.

³ Thabrew, Hiran et al (2016). Game for health: How eHealth approaches might address psychological needs of children and young people with long-term physical conditions. Journal of Paediatrics and Clinical Health.

Eligibility Rules for Participating in the Competition

To be eligible to win a prize under this challenge, an individual or entity—

(1) Shall have registered to participate in the competition under the rules promulgated by HRSA and the U.S. Department of Health and Human Services (HHS).

(2) Shall have complied with all the requirements under this section.

(3) Private entities shall be incorporated in and maintain a primary place of business in the United States, and individuals, whether participating singly or in a group, shall be a citizen or permanent resident of the United States.

(4) May not be a federal entity or federal employee acting within the scope of their employment.

(5) Shall not be an HHS employee working on their applications or submissions during assigned duty hours.

(6) May not be employees of HRSA or any other company, organization, or individual involved with the design, production, execution, judging, or distribution of the Challenge and their immediate family (spouse, parents and step-parents, siblings and step-siblings, and children and step-children) and household members (people who share the same residence at least three months out of the year).

(7) In the case of a federal grantee, may not use federal funds to develop COMPETES Act challenge applications unless consistent with the purpose of their grant award.

(8) In the case of a federal contractor, may not use federal funds from a contract to develop COMPETES Act challenge applications or to fund efforts in support of a COMPETES Act challenge submission.

(9) Shall not be deemed ineligible because the individual or entity used federal facilities or consulted with federal employees during a competition if the facilities and employees are made equitably available to all individuals and entities participating in the competition.

(10) Must agree to assume any and all risks and waive claims against the federal government and its related entities, except in the case of willful misconduct, for any injury, death, damage, or loss of property, revenue, or profits, whether direct, indirect, or consequential, arising from the participation in this prize contest, whether the injury, death, damage, or loss arises through negligence or otherwise.

(11) Must also agree to indemnify the federal government against third party claims for damages arising from or related to competition activities.

(12) Shall not be currently on the Excluded Parties List (https://www.epls.gov/).

Submission Requirements

The Challenge has three phases.

Phase 1—Design

The first stage of the prize competition aims to attract a large set of ideas and innovators. The target product of the first stage will be the conceptualization of the most promising innovations to help support improvements in health care for children and youth (and their families). The submissions should aim to demonstrate that the proposed intervention will be accessible across and impactful to users from diverse backgrounds.

The Phase 1 submission shall include:

1. A comprehensive description of the proposed intervention in five pages or less, including:

a. A one-paragraph executive summary that clearly states the barrier(s) to access to be overcome by the intervention and a brief description of the proposed intervention;

b. Background information providing evidence to support the intervention;

c. A description of how the applicant arrived at their idea;

d. Descriptions of the methods and technologies involved in implementation of the intervention; and

e. An assessment describing the applicant's ability to execute the proposed solution in Phase 2 and 3.

Phase 2—Development and Small Scale Testing

The winners of Phase 1 of the prize competition will then advance to a second stage focused on prototyping the technology and testing the effectiveness of the intervention. Using support from the Phase 1 prize funding, intervention developers will test the efficacy of their models to show that the proposed intervention will improve health care for children and families. The applicants should also demonstrate the intervention's usability among the target population. Mentors will be available to help participants design appropriate testing methodologies and learn more about the evidence base.

Phase 3—Scaling

The final phase will involve testing the most promising models at greater scale through rollout at the program or community level. This will test the scalability of the device, the feasibility of implementation, and the impact on intended outcomes.

Registration Process for Participants

Participants will be able to register and submit an entry at the Improving Care for Children and Youth Challenge Web site. Participants can find out more information at https://www.challenge.gov/list/.

Prizes

• Total: $375,000 in Prizes

○ Phase 1: 7-10 winners; up to a total of $100,000 in prizes

○ Phase 2: 3-5 winners; up to a total of $125,000 in prizes

○ Phase 3: 1 winner; up to a total of $150,000 prize

Payment of the Prizes

Prize payments will be paid by a contractor. Phase 1 winners may be expected to use a portion of the prize money for travel and lodging to attend a 2-day meeting in Washington, DC, to demonstrate their innovation to the judges.

Prizes awarded under this competition will be paid by electronic funds transfer and may be subject to Federal income taxes. HHS will comply with the Internal Revenue Service withholding and reporting requirements, where applicable.

Basis for Winner Selection

A review panel composed of HHS employees and experts will judge challenge entries in compliance with the requirements of the America COMPETES Act and HHS judging guidelines: http://www.hhs.gov/idealab/wp-content/uploads/2014/04/HHS-COMPETITION-JUDGING-GUIDELINES.pdf.

The review panel will make selections based upon the following criteria:

Phase 1

Accessibility

• Is the proposed intervention easily utilized by families of diverse economic, social, and cultural backgrounds? Is it functional across disciplines/users?

Measurability

• How easily will the proposed intervention be evaluated in order to determine its efficacy (in both lab testing and in the real world)? Is the proposed intervention measurable among various audiences?

Sustainability

• Does the proposed intervention compel users to utilize the technology often and/or for long periods of time? Does it fit into daily life? Is it fun to use?

Impact

• Does the applicant present a theory or explanation of how the proposed intervention would result in concrete change?

Phase 2

Impact

• How did the intervention impact outcomes for parents/caregivers and children? What did data show?

Evidence Base

• Is the intervention grounded in existing science related to improving health care and related services for children and families?

Sustainability

• Was the intervention compelling to users and did it encourage users to use the technology often? Did users want to engage continuously with the technology?

Implementation

• How feasible is the intervention? How much support for implementation will the intervention require (estimated financial and time commitment)?

Phase 3

Impact

• How effective was the intervention when implemented at scale? Did the impacts on users from Phase 2 remain consistent?

Implementation

• How feasible was the intervention on a larger scale? How much support for implementation did the model require (financial and time commitment)? How challenging was the actual program implementation?

Scalability

• How costly was the intervention in a real-world setting? How likely are cost efficiencies for program delivery at greater scale? Can the technology be used in existing platforms?

Additional Information

General Conditions:

• HRSA reserves the right to cancel, suspend, and/or modify the contest, or any part of it, for any reason, at HRSA's sole discretion.

• The interventions submitted across all phases should not use the HHS or HRSA logos or official seals in the submission, and must not claim endorsement.

Intellectual Property

• Each entrant retains full ownership and title in and to their submission. Entrants expressly reserve all intellectual property rights not expressly granted under the challenge agreement.

• By participating in the challenge, each entrant hereby irrevocably grants to HRSA a limited, non-exclusive, royalty-free, worldwide license and right to reproduce, publically perform, publically display, and use the submission for internal HHS business and to the extent necessary to administer the challenge, and to publically perform and publically display the submission, including, without limitation, for advertising and promotional purposes relating to the challenge.

• Record Retention and FOIA: All materials submitted to HRSA as part of a submission become HRSA records and cannot be returned. Any confidential commercial information contained in a submission should be designated at the time of submission. Participants will be notified of any Freedom of Information Act requests for their submissions in accordance with 45 CFR 5.65.

The statutory authority for this challenge competition is Section 105 of the America COMPETES Reauthorization Act of 2010 (COMPETES Act, Pub. L. 111-358) as amended by section 401(b) of the American Innovation and Competitiveness Act, Public Law 114-329.

Dated: September 19, 2017.
George Sigounas,
Administrator.

[FR Doc. 2017-20535 Filed 9-25-17; 8:45 am]

BILLING CODE 4165-15-P